DEPARTMENT OF COMMERCE

International Trade Administration

[A-533-877, A-570-064, C-533-878, C-570-065]

Stainless Steel Flanges From India and the Peoples's Republic of China: Continuation of Antidumping and Countervailing Duty Orders

AGENCY: Enforcement and Compliance, International Trade Administration, Department of Commerce.

SUMMARY: As a result of the determinations by the U.S. Department of Commerce (Commerce) and the U.S. International Trade Commission (ITC) that revocation of the antidumping duty (AD) and countervailing duty (CVD) orders on stainless steel flanges from India and the People's Republic of China (China) would likely lead to a continuation or recurrence of dumping, countervailable subsidies, and material injury to an industry in the United States, Commerce is publishing a notice of continuation of the AD and CVD orders.

DATES: Applicable October 24, 2023.

FOR FURTHER INFORMATION CONTACT: Emily Halle or Robert Galantucci, AD/CVD Operations, Office V, Enforcement and Compliance, International Trade Administration, U.S. Department of Commerce, 1401 Constitution Avenue NW, Washington, DC 20230; telephone: (202) 482-0176 or (202) 482-2923, respectively.

SUPPLEMENTARY INFORMATION:

Background

On August 1, 2018, and October 9, 2018, Commerce published in the Federal Register the AD orders on stainless steel flanges from China and India, respectively.¹ On June 5 and October 5, 2018, Commerce published in the Federal Register the CVD orders on steel flanges from China and India, respectively.² On May 1, 2023, the ITC instituted,³ and Commerce initiated,⁴ the first sunset reviews of the AD Orders and the CVD Orders, pursuant to section 751(c) of the Tariff Act of 1930, as amended (the Act). As a result of its review, Commerce determined that revocation of the AD Orders and CVD Orders would likely lead to continuation or recurrence of dumping and countervailable subsidies, and, therefore, notified the ITC of the magnitude of the margins of dumping and subsidy rates likely to prevail should the AD Orders ⁵ and CVD Orders ⁶ be revoked.

¹ See Stainless Steel Flanges from the People's Republic of China: Antidumping Duty Order, 83 FR 37468 (August 1, 2018); and Stainless Steel Flanges from India: Antidumping Duty Order, 83 FR 50639 (October 9, 2018) (collectively, AD Orders).

² See Stainless Steel Flanges from the People's Republic of China: Countervailing Duty Order, 83 FR 26006 (June 5, 2018); and Stainless Steel Flanges from India: Countervailing Duty Order, 83 FR 50336 (October 5, 2018), (collectively, CVD Orders).

³ See Stainless Steel Flanges from China and India; Institution of Five-Year Reviews, 88 FR 26592 (May 1, 2023).

⁴ See Initiation of Five-Year (Sunset) Reviews, 88 FR 26522 (May 1, 2023).

⁵ See Stainless Steel Flanges from India and the People's Republic of China: Final Results of the Expedited First Sunset Reviews of the Antidumping Duty Orders, 88 FR 60642 (September 5, 2023).

⁶ See Stainless Steel Flanges from India: Final Results of the Expedited First Sunset Review of the Countervailing Duty Order, 88 FR 60181 (August 31, 2023); see also Stainless Steel Flanges from the People's Republic of China: Final Results of the Expedited First Sunset Review of the Countervailing Duty Order, 88 FR 60640 (September 5, 2023).

On October 24, 2023, the ITC published its determination, pursuant to sections 751(c) and 752(a) of the Act, that revocation of the AD Orders and CVD Orders would likely lead to continuation or recurrence of material injury to an industry in the United States within a reasonably foreseeable time.⁷

⁷ See Stainless Steel Flanges from China and India; Determinations, 88 FR 73043 (October 24, 2023).

Scope of the AD Orders and CVD Orders

The scope of the AD Orders and CVD Orders covers certain forged stainless steel flanges, whether unfinished, semi-finished, or finished (certain forged stainless steel flanges). Certain forged stainless steel flanges are generally manufactured to, but not limited to, the material specification of ASTM/ASME A/SA182 or comparable domestic or foreign specifications. Certain forged stainless-steel flanges are made in various grades such as, but not limited to, 304, 304L, 316, and 316L (or combinations thereof). The term “stainless steel” used in this scope refers to an alloy steel containing, by actual weight, 1.2 percent or less of carbon and 10.5 percent or more of chromium, with or without other elements.

Unfinished stainless steel flanges possess the approximate shape of finished stainless steel flanges and have not yet been machined to final specification after the initial forging or like operations. These machining processes may include, but are not limited to, boring, facing, spot facing, drilling, tapering, threading, beveling, heating, or compressing. Semi-finished stainless-steel flanges are unfinished stainless steel flanges that have undergone some machining processes.

The scope includes six general types of flanges. They are: (1) weld neck, generally used in butt-weld line connection; (2) threaded, generally used for threaded line connections; (3) slip-on, generally used to slide over pipe; (4) lap joint, generally used with stub-ends/butt-weld line connections; (5) socket weld, generally used to fit pipe into a machine recession; and (6) blind, generally used to seal off a line. The sizes and descriptions of the flanges within the scope include all pressure classes of ASME B16.5 and range from one-half inch to twenty-four inches nominal pipe size. Specifically excluded from the scope of the AD Orders and CVD Orders are cast stainless steel flanges. Cast stainless steel flanges generally are manufactured to specification ASTM A351.

The country of origin for certain forged stainless steel flanges, whether unfinished, semi-finished, or finished is the country where the flange was forged. Subject merchandise includes stainless steel flanges as defined above that have been further processed in a third country. The processing includes, but is not limited to, boring, facing, spot facing, drilling, tapering, threading, beveling, heating, or compressing, and/or any other processing that would not otherwise remove the merchandise from the scope of the AD Orders or CVD Orders if performed in the country of manufacture of the stainless steel flanges.

Merchandise subject to the AD Orders or CVD Orders is typically imported under headings 7307.21.1000 and 7307.21.5000 of the Harmonized Tariff Schedule of the United States (HTSUS). While HTSUS subheadings and ASTM specifications are provided for convenience and customs purposes, the written description of the scope is dispositive.

Continuation of the AD Orders and CVD Orders

As a result of the determinations by Commerce and the ITC that revocation of the AD Orders and CVD Orders would likely lead to a continuation or a recurrence of dumping, countervailable subsidies, and material injury to an industry in the United States, pursuant to section 751(d)(2) of the Act and 19 CFR 351.218(a), Commerce hereby orders the continuation of the AD Orders and CVD Orders. U.S. Customs and Border Protection will continue to collect AD and CVD cash deposits at the rates in effect at the time of entry for all imports of subject merchandise.

The effective date of the continuation of the AD Orders and CVD Orders will be October 24, 2023.⁸ Pursuant to section 751(c)(2) of the Act and 19 CFR 351.218(c)(2), Commerce intends to initiate the next five-year review of the AD Orders and CVD Orders not later than 30 days prior to the fifth anniversary of the date of the last determination by the ITC.

⁸ Id.

Administrative Protective Order

This notice also serves as the only reminder to parties subject to an administrative protective order (APO) of their responsibility concerning the return, destruction, or conversion to judicial protective order of proprietary information disclosed under APO in accordance with 19 CFR 351.305(a)(3). Timely written notification of the return or destruction of APO materials or conversion to judicial protective order is hereby requested. Failure to comply is a violation of the APO which may be subject to sanctions.

Notification to Interested Parties

These five-year sunset reviews and this notice are in accordance with sections 751(c) and 751(d)(2) of the Act and published in accordance with section 777(i)(1) of the Act and 19 CFR 351.218(f)(4).

Dated: October 24, 2023.
Lisa W. Wang,
Assistant Secretary for Enforcement and Compliance.

[FR Doc. 2023-23990 Filed 10-30-23; 8:45 am]

BILLING CODE 3510-DS-P